DEPARTMENT OF COMMERCE

National Oceanic and Atmospheric Administration

RIN 0648-XC936

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scallop Advisory Panel on November 13, 2013 to consider actions affecting New England fisheries in the exclusive economic zone (EEZ). Recommendations from this group will be brought to the full Council for formal consideration and action, if appropriate.

DATES: This meeting will be held on Wednesday, November 13, 2013 at 9 a.m.

ADDRESSES: Meeting Address: The meeting will be held at the Omni Providence Hotel, 1 West Exchange Street, Providence, RI 02048; telephone: (401) 598-8000; fax: (401) 598-8200.

Council Address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The Advisory Panel will continue development of potential alternatives for FY2014 and FY2015 (default) specifications being considered in Framework 25. Specifications include days-at-sea allocations, access area allocations, individual fishing quota (IFQ) allocations for the general category fishery, a hard total allowable catch (TAC) for the Northern Gulf of Maine (NGOM) area and target TAC for vessels with a general category incidental catch permit. The Advisory Panel will also finalize other measures being considered: (1) Measures for unused 2012 and 2013 Closed Area I access area trips; and (2) accountability measures for Southern New England/Mid Atlantic (SNE/MA) windowpane flounder. The Advisors will make final recommendations for the Scallop Committee to consider for 2014 Council work priorities. Finally, there will be a presentation from the Northeast Regional Ocean Council (NROC) about regional ocean planning efforts, specifically fishing characterization maps that have been developed. Other issues may be discussed.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: October 23, 2013.
Tracey L. Thompson,
Acting Deputy Director, Office of Sustainable Fisheries, National Marine Fisheries Service.

[FR Doc. 2013-25356 Filed 10-25-13; 8:45 am]

BILLING CODE 3510-22-P